DEPARTMENT OF HEALTH AND HUMAN SERVICES

Centers for Medicare & Medicaid Services

[Document Identifier: CMS-1763 and CMS-1696]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by September 4, 2025.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Revision of a currently approved collection; Title of Information Collection: Request for Termination of Medicare Premium Part A, Part B, or Part B Immunosuppressive Drug Coverage (Part B-ID) and Supporting Statute and Regulations; Use: Sections 1818(c)(5), 1818A(c)(2)(B) and 1838(b)(1) of the Act and corresponding regulations at 42 CFR 406.28(a) and 407.27(c) require that a Medicare enrollee wishing to voluntarily terminate Part B or premium Part A coverage file a written request with CMS or SSA. Pursuant to 1838(h) of the Act and the corresponding regulation at 42 CFR 407.62(a), individuals wishing to terminate their Part B-ID coverage must notify SSA. The statute and regulations also specify when coverage ends based upon the date the request for termination is filed.

The CMS-1763 is the form used by individuals who wish to terminate their Medicare Part A, Part B or Part B-ID. This 2024 iteration is a revision that does not propose any program changes. Per the Office of Communication's plain language suggestion, the title has been updated to “Request for Termination of Medicare Premium Part A, Part B, or Part B Immunosuppressive Drug Coverage (Part B-ID).” The 2024 submission saw an increase in the burden due to utilization of the form and improvement in the accuracy of the data exchanges between CMS and SSA. Updated wage information for a federal government employee is also responsible for part of the increase. Form Number: CMS-1763 (OMB control number 0938-0025); Frequency: Biennially; Affected Public: Private Sector—State, Local, or Tribal Governments; and Federal Government; Number of Respondents: 197,518; Total Annual Responses: 197,518; Total Annual Hours: 33,578. (For policy questions regarding this collection contact Tyrissa Woods at 410-786-0286 or tyrissa.woods@cms.hhs.gov.)

2. Type of Information Collection Request: Extension of a currently approved collection; Title of Information Collection: Appointment of Representative; Use: The requirements for appointing representatives for claims and appeals processed under 42 CFR part 405 Subpart I were codified into regulation at 42 CFR 405.910. In summary, section 405.910 states an individual or entity may appoint a representative to act on their behalf in exercising their rights relative to an initial claim determination or an appeal. The appointment of representation must be in writing and must include all the required elements specified in 405.910(c). The burden associated with this requirement is the time and effort of the individual or entity to prepare an appointment of representation containing all the required information of this section.

This form would be completed by Medicare beneficiaries, providers, and suppliers (typically their billing clerk, or billing company), and any party who wish to appoint a representative to assist them with their initial Medicare claims determinations and filing appeals on Medicare claims. The information supplied on the form is reviewed by Medicare claims and appeals adjudicators. The adjudicators make determinations whether the form was completed accurately, and if the form is correct and accepted, the form is appended to the claim or appeal that it was filed with Form Number: CMS-1696 (OMB control number: 0938-0950); Frequency: Occasionally; Affected Public: Individuals and Households and Private Sector; Number of Respondents: 208,173; Total Annual Responses: 208,173; Total Annual Hours: 52,043. (For policy questions regarding this collection contact Katherine Hosna at (410) 786-4993 or Katherine.Hosna@cms.hhs.gov.)

William N. Parham, III,
Director, Division of Information Collections and Regulatory Impacts, Office of Strategic Operations and Regulatory Affairs.

[FR Doc. 2025-14829 Filed 8-4-25; 8:45 am]

BILLING CODE 4120-01-P